DEPARTMENT OF COMMERCE

Foreign-Trade Zones Board

[Docket T-3-2011]

Foreign-Trade Zone 72 Temporary/Interim Manufacturing Authority Brevini Wind USA, Inc., (Wind Turbine Gear Boxes); Notice of Approval

On July 14, 2011, the Executive Secretary of the Foreign-Trade Zones (FTZ) Board filed an application submitted by the Indianapolis Airport Authority, grantee of FTZ 72, requesting temporary/interim manufacturing (T/IM) authority, on behalf of Brevini Wind USA, Inc., to manufacture wind turbine gear boxes under FTZ procedures within FTZ 72—Site 14, in Yorktown, Indiana.

The application was processed in accordance with T/IM procedures, as authorized by FTZ Board Orders 1347 (69 FR 52857, 8/30/04) and 1480 (71 FR 55422, 9/22/06), including notice in the Federal Register inviting public comment (76 FR 43260, 7/20/2011). The FTZ staff examiner reviewed the application and determined that it meets the criteria for approval under T/IM procedures. Pursuant to the authority delegated to the FTZ Board Executive Secretary in the above-referenced Board Orders, the application is approved, effective this date, until September 27, 2013, subject to the FTZ Act and the Board's regulations, including Section 400.28.

Dated: September 27, 2011.
Andrew McGilvray,
Executive Secretary.

[FR Doc. 2011-25533 Filed 10-3-11; 8:45 am]

BILLING CODE 3510-DS-P